SMALL BUSINESS ADMINISTRATION

[Disaster Declaration #20166 and #20167; PENNSYLVANIA Disaster Number PA-20002]

Administrative Declaration Amendment of a Disaster for the Commonwealth of Pennsylvania

AGENCY: Small Business Administration.

ACTION: Amendment 1.

SUMMARY: This is an amendment of the Administrative declaration of a disaster for the Commonwealth of Pennsylvania dated 01/25/2024.

Incident: Severe Storms and Flooding.

Incident Period: 09/09/2023.

DATES: Issued on 03/25/2024.

Physical Loan Application Deadline Date: 04/24/2024.

Economic Injury (EIDL) Loan Application Deadline Date: 10/25/2024.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the Administrative disaster declaration for the Commonwealth of Pennsylvania, dated 01/25/2024, is hereby amended to extend the deadline for filing applications for physical damages as a result of this disaster to 04/24/2024.

All other information in the original declaration remains unchanged.

(Catalog of Federal Domestic Assistance Number 59008)

Isabella Guzman,
Administrator.

[FR Doc. 2024-06667 Filed 3-28-24; 8:45 am]

BILLING CODE 8026-09-P